DEPARTMENT OF HOMELAND SECURITY

Federal Emergency Management Agency

44 CFR Part 67

[Docket No. FEMA-B-7724]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Directorate, Federal Emergency Management Agency, 500 C Street SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) +Elevation in feet (NAVD) # Depth in feet above ground.: Effective | * Elevation in feet (NGVD) +Elevation in feet (NAVD) # Depth in feet above ground.: Modified | Communities affected
Baker County, Florida, and Incorporated Areas
Barber Bay Tributary | At confluence with South Prong Saint Marys River | None | +85 | City of Macclenny.
| At confluence with South Prong Saint Marys River | None | +85
| 1100 feet upstream of County Road 228 | None | +124
| 3000 feet upstream of County Road 228 | None | +128
South Prong Saint Marys River | 6459 feet downstream from the confluence with Barber Bay Tributary | +80 | +79 | Baker County (Unincorporated Areas).
| 8800 feet upstream from the confluence with South Prong St. Mary's River Tributary 8 | None | +100
Tributary 8 | At confluence with South Prong Saint Marys River | None | +97 | Baker County (Unincorporated Areas).
Turkey Creek | At confluence with South Prong Saint Marys River | None | +94 | Baker County (Unincorporated Areas).
| 1680 feet upstream of the confluence with Turkey Creek Tributary 2 | None | +111
| 1250 feet upstream of Barber Road | None | +116
| 810 feet downstream of Barber Road | None | +117
Tributary 1 | At confluence with Turkey Creek | None | +95 | Baker County (Unincorporated Areas).
| 8960 feet upstream of State Highway 121 | None | +138
Tributary 1.1 | At confluence with Turkey Creek Tributary 1.1 | None | +98 | Baker County (Unincorporated Areas).
| 1190 feet upstream of Woodlawn Road | None | +117
| 1280 feet upstream of Woodlawn Road | None | +118
| 1940 feet upstream of Woodlawn Road | None | +119
Tributary 2 | At confluence with Turkey Creek | None | +109 | City of Macclenny.
| 3080 feet upstream of the confluence with Turkey Creek Tributary 2.1 | None | +125
| 3080 feet upstream of the confluence with Turkey Creek Tributary 2.1 | None | +125
| 145 feet upstream of U.S. Highway 90 | None | +129
| At Interstate 10 | None | +129
Tributary 2.1 | At confluence with Turkey Creek Tribuatry 2 | None | +115 | City of Macclenny.
| At Powerline Road | None | +122
| At Powerline Road | None | +122
| 3040 feet upstream of Canal Road | None | +132
* National Geodetic Vertical Datum.
+ North American Vertical Datum.
# Depth in feet above ground.
ADDRESSES
City of Macclenny
Maps are available for inspection at 32 South 5th Street, Macclenny, FL 32063.
Send comments to The Honorable Gary Dopson, Mayor, City of Macclenny, 55 North 3rd Street, Macclenny, FL 32063.
Baker County (Unincorporated Areas)
Maps are available for inspection at 55 North 3rd Street, Macclenny, FL 32063.
Send comments to Mr. Joe Cone, County Manager, 55 North 3rd Street, Macclenny, FL 32063.
Jackson County, Illinois, and Incorporated Areas
Big Muddy River | Approximately 4,050 ft above South 20th Street | None | +372 | Jackson County (Unincorporated Areas).
| Approximately 4,810 ft above North Cleveland Street | None | +375
Crab Orchard Creek | Approximately 100 feet downstream of Helm Road | None | +380 | Jackson County (Unincorporated Areas).
| Approximately 1500 feet south of Dillinger Road | None | +383
Drury Creek | Approximately 1,500 feet north of the termination of Church Street | None | +434 | Jackson County (Unincorporated Areas).
| Approximately 700 feet south of the intersection of Giant City Road and Springer Ridge Road | None | +437
Mississippi River | Approximately 900 feet downstream of Grand Tower Road extended | +372 | +370 | City of Grand Tower.
| Approximately 720 feet above 25th Street extended | +375 | +371
Mississippi River | Approximately at Muntz Road Alignment (Mouth of Big Muddy River) Union/Jackson County Boundary | None | +368 | Village of Gorham, Jackson County (Unincorporated Areas).
| Approximately at Levee Road (Mouth of Degognia Creek) Randolph/Jackson County Boundary | None | +383
North Fork | 280 feet east of 8th Street | None | +387 | Jackson County (Unincorporated Areas).
| 200 feet east of 8th Street | None | +388
North Tributary | Approximately at the railroad | None | +402 | Jackson County (Unincorporated Areas).
| Approximately at Town Road (West Road) | None | +402
Pond Creek | Approximately at the railroad crossing at the North boundary of Murphysboro | None | +399 | Jackson County (Unincorporated Areas).
| Approximately at Cochran Road | None | +401
South Tributary | East of Roosevelt Street (US 51) | None | +394 | Jackson County (Unincorporated Areas).
| At Town Road (West Road) | None | +403
* National Geodetic Vertical Datum.
# Depth in feet above ground.
+ North American Vertical Datum.
ADDRESSES
City of Grand Tower
Maps are available for inspection at 201 Market Street, Grand Tower City Hall, Grand Tower, IL 62942.
Send comments to The Honorable Randy Ellet, Mayor, City of Grand Tower, P.O. Box 273, Grand Tower, IL 62942.
Jackson County (Unincorporated Areas)
Maps are available for inspection at 20 South 10th Street, County Assessment Office, Murphysboro, IL 62966.
Send comments to The Honorable John Evans, County Board Chairman, Jackson County, Illinois, 1001 Walnut Street, Jackson County Courthouse, Murphysboro, IL 62966.
Village of Gorham
Maps are available for inspection at 306 Washington Street, Gorham City Hall, Gorham, IL 62940.
Send comments to The Honorable Ralph Stone, Village President, Village of Gorham, 306 Washington Street, Gorham, IL 62940.
Union County, Illinois, and Incorporated Areas
Mississippi River | Alexander/Union County Boundary, approximately 3,000 feet upstream of the Mouth of Picayune Chute in Alexander County | +359 | +354 | Union County (Unincorporated Areas).
| Approximately 5,480 feet above Muddy Levee Road | +371 | +369
* National Geodetic Vertical Datum.
# Depth in feet above ground.
+ North American Vertical Datum.
ADDRESSES
Union County (Unincorporated Areas)
Maps are available for inspection at 311 West Market Street, Union County Clerk, Jonesboro, IL 62952.
Send comments to The Honorable Bill Jackson, County Board Chairman, Union County, Illinois, 309 West Market Street, Room 100, Jonesboro, IL 62952.
Tunica County, Mississippi, and Incorporated Areas
Buck Island Bayou | At Fields Road | None | +189 | Tunica County (Unincorporated Areas).
| At Highway 3 | None | +189
Jack Lake Bayou | At Jack Lake Crossing | None | +189 | Tunica County (Unincorporated Areas).
| At Verner Road | None | +191
Minton Bayou | At confluence with Jack Lake Bayou | None | +189 | Tunica County (Unincorporated Areas).
| At Fields Road | None | +190
White Oak Bayou | At Highway 4 | None | +181 | Tunica County (Unincorporated Areas).
| At Highway 61 | None | +186
Tributary | At Academy Road | +189 | +190 | Town of Tunica.
| At Fox Island Road | +191 | +192 | Tunica County (Unincorporated Areas).
* National Geodetic Vertical Datum.
+ North American Vertical Datum.
# Depth in feet above ground.
ADDRESSES
Town of Tunica
Maps are available for inspection at Town Hall, 909 River Road, Tybuca, MS 38676.
Send comments to The Honorable Lynn Sturgill, Mayor, Town of Tunica, P.O. Box 395, Tunica, MS 38676.
Tunica County (Unincorporated Areas)
Maps are available for inspection at Office of Planning and Development, 1061 South Court Street, Tunica, MS 38676.
Send comments to Mr. Cedric Burnett, President, Tunica County Board of Supervisors, P.O. Box 639, Tunica, MS 38676.
Waller County, Texas, and Incorporated Areas
Cane Island Branch | Intersection with U.S. 190 | +142 | +137 | City of Katy.
| Approximately 535 feet upstream of Clay Road intersection | None | +158
Cypress Creek | Intersection with private road contiguous with county line | +171 | +170 | Waller County (Unincorporated Areas).
| Confluence with Mound Creek | +186 | +185
East Fork Mound Creek | Confluence with Mound Creek | +223 | +221 | City of Waller.
| 200 feet upstream of Taylor intersection | +248 | +249 | Waller County (Unincorporated Areas).
Mound Creek | Approximately 1800 feet downstream from confluence with Tributary 7.62 of Mound Creek | +216 | +217 | City of Waller.
| Approximately 1000 feet upstream of confluence with Tributary 7.62 of Mound Creek | +216 | +219
Spring Creek | 3800 feet downstream of intersection with Nichols Rd | None | +202 | City of Waller.
| 850 feet upstream of 1736 intersection | None | +291
Tributary 7.62 of Mound Creek | Confluence with Mound Creek | +217 | +218 | Waller County (Unincorporated Areas).
| Approximately 4000 feet upstream of confluence with Mound Creek | +221 | +224
* National Geodetic Vertical Datum.
+ North American Vertical Datum.
# Depth in feet above ground.
ADDRESSES
City of Katy
Maps are available for inspection at 910 Avenue C, Katy, TX 77493.
Send comments to The Honorable Doyle Callender, Mayor, P.O. Box 617, Katy, TX 77492.
City of Waller
Maps are available for inspection at P.O. Box 239, Waller, TX 77484.
Send comments to The Honorable Dwayne Hajek, Mayor, P.O. Box 239, Waller, TX 77484.
Waller County (Unincorporated Areas)
Maps are available for inspection at 775 Business 290 East, Hempstead, TX 77445.
Send comments to The Honorable Owen Ralston, County Judge, 836 Austin St., Ste. 203, Hempstead, TX 77445.
Fond Du Lac County, Wisconsin, and Incorporated Areas
McDermott Creek | Approximately 0.4 mile downstream of County Highway T | None | +777 | City of Fond Du Lac.
| Approximately 0.4 mile upstream of County Highway T | None | +808 | Fond Du Lac County (Unincorporated Areas).
Mosher Creek | Approximately 300 feet upstream of U.S. Highway 45 (Lakeshore Drive) | +750 | +749 | Village of North Fond Du Lac
| Approximately 200 feet upstream of McKinley Street | +768 | +767 | Fond Du Lac County (Unincorporated Areas).
Rush Lake | Approximately 0.6 mile Northwest of the intersection of Island Road and Elbow Road | None | +823 | Fond Du Lac County (Unincorporated Areas).
| Approximately 0.5 mile Northeast of the intersection of Rich Road and County Highway E | None | +823
South Branch Rock River | Just downstream of Northbound U.S. Highway 151 | None | +871 | Fond Du Lac County (Unincorporated Areas).
| Just upstream of Southbound U.S. Highway 151 | None | +871
Taycheedah Creek | Approximately 0.5 mile downstream of DuCharme Parkway | +753 | +754 | City of Fond Du Lac.
| Just downstream of state Highway 23 | +767 | +768 | Fond Du Lac County (Unincorporated Areas).
* National Geodetic Vertical Datum.
# Depth in feet above ground.
+ North American Vertical Datum.
ADDRESSES
City of Fond Du Lac
Maps are available for inspection at City Hall, 160 South Macy Street, Fond Du Lac, WI 54935-0150.
Send comments to Tom Herre, City Manager, City of Fond Du Lac, Post Office Box 150, Fond du Lac, WI 54936.
Unincorporated Areas of Fond Du Lac County
Maps are available for inspection at Fond Du Lac County Courthouse, 160 South Macy Street, Fond Du Lac, WI 54935.
Send comments to Allen Buechel, County Executive, Fond Du Lac County, 160 South Macy Street, Fond Du Lac, WI 54935.
Village of North Fond Du Lac
Maps are available for inspection at Village Hall, Village of North Fond Du Lac, 16 Garfield Street, North Fond Du Lac, WI 54937-1399.
Send comments to Charles Hornung, Village President, Village of North Fond Du Lac, 16 Garfield Street, North Fond Du Lac, WI 54937.
Jefferson County, Wisconsin, and Incorporated Areas
Koshkonong Creek | Just upstream of Rockdale Road | +796 | +795 | Jefferson County (Unincorporated Areas).
| Approximately 1,200 feet upstream of Bridge Street | +844 | +843
Maunesha River | Approximately 1,500 feet downstream of Highway 19 | None | +830 | City of Waterloo.
| Approximately 1,000 feet downstream of Highway 19 | None | +830
Unnamed Stream | Approximately 1,500 feet downstream of County Highway C | None | +804 | Jefferson County (Unincorporated Areas).
| Just downstream of County Highway C | None | +804
* National Geodetic Vertical Datum.
# Depth in feet above ground.
+ North American Vertical Datum.
ADDRESSES
City of Waterloo
Maps are available for inspection at City Hall, 136 North Monroe Street, Waterloo, WI 53594.
Send comments to The Honorable Robert Thompson, Mayor, City of Waterloo, City Hall, 136 North Monroe Street, Waterloo, WI 53594.
Jefferson County (Unincorporated Areas)
Maps are available for inspection at Jefferson County Courthouse, 320 South Main Street, Room 201, Jefferson, WI 53549.
Send comments to Ms. Sharon L. Schmeling, Chairperson, Jefferson County Board, Jefferson County Courthouse, 320 South Main Street, Room 201, Jefferson, WI 53549.

(Catalog of Federal Domestic Assistance No. 97.022, “Flood Insurance.”)

Dated: July 3, 2007.
David I. Maurstad,
Federal Insurance Administrator of the National Flood Insurance Program, Department of Homeland Security, Federal Emergency Management Agency.

[FR Doc. E7-13616 Filed 7-12-07; 8:45 am]

BILLING CODE 9110-12-P